DEPARTMENT OF COMMERCE

Census Bureau

Census Scientific Advisory Committee; Request for Nominations

AGENCY: Census Bureau, Commerce.

ACTION: Notice of request for nominations.

SUMMARY: The Bureau of the Census (Census Bureau) requests nominations of individuals to the Census Scientific Advisory Committee (CSAC or Committee). The Census Bureau will consider nominations received in response to this notice, as well as from other sources. The SUPPLEMENTARY INFORMATION section of this notice provides Committee and membership criteria.

DATES: Please submit nominations by February 2, 2024. The Census Bureau will retain nominations received after this date for consideration should additional vacancies occur.

ADDRESSES: Please submit nominations to the census.scientific.advisory .committee@census.gov (subject line “2024 CSAC Nominations”).

FOR FURTHER INFORMATION CONTACT: Shana Banks, Chief, Advisory Committee Branch, Office of Program, Performance and Stakeholder Integration (PPSI), Census Bureau, by telephone at 301-763-3815 or by email at Shana.J.Banks@census.gov. Individuals who use telecommunication devices for the deaf (TDD) may call the Federal Information Relay Service (FIRS) at 1-800-877-8339 between 8 a.m. and 8 p.m., eastern standard time, Monday through Friday.

SUPPLEMENTARY INFORMATION: The Census Scientific Advisory Committee was established in accordance with the Federal Advisory Committee Act (FACA) title 5, United States Code (U.S.C.), app. The following provides information about the Committee, membership, and the nomination process.

Objectives and Duties

1. The Census Scientific Advisory Committee advises the Director of the U.S. Census Bureau on the full range of Census Bureau programs and activities including communications, demographic, economic, field operations, geography, information technology, and statistics.

2. The Census Scientific Advisory Committee will address census policies, research and methodology, tests, operations, communications/messaging, and other activities to ascertain needs and best practices to improve censuses, surveys, operations, and programs.

3. The Census Scientific Advisory Committee will provide formal review and feedback on internal and external working papers, reports, and other documents related to the design and implementation of census programs and surveys.

4. The Census Scientific Advisory Committee will function solely as an advisory body and shall comply fully with the provisions of the FACA.

5. The Census Scientific Advisory Committee reports to the Director of the Census Bureau.

Membership

1. The Census Scientific Advisory Committee consists of up to 21 members who are appointed by and serve at the discretion of the Director of the Census Bureau.

2. Members will serve for a three-year term. All members will be evaluated at the conclusion of their first term with the prospect of renewal, pending Committee needs. Active attendance and participation in meetings and activities will be factors considered when determining term renewal or membership continuance. Members may be appointed for a second three-year term at the discretion of the Director.

3. Members shall serve as Special Government Employees (SGEs) and will be subject to the ethics rules applicable to SGEs.

4. The Census Scientific Advisory Committee aims to have balanced representation among its members, considering such factors as geography, scientific expertise, community involvement, and knowledge of census programs and/or activities, and, where possible the Census Bureau will consider the ethnic, racial, and gender diversity and various abilities of the United States population.

5. No employee of the Federal Government can serve as a member of the Census Scientific Advisory Committee.

Miscellaneous

1. The Census Bureau will not compensate members of the Committee for their services, but shall, upon request, reimburse travel expenses as authorized by 5 U.S.C. 5703.

2. The Census Scientific Advisory Committee will convene twice per year, budget and environmental conditions permitting. The Committee will use formal advisory committee meetings, webinars, working groups, and other means of review to accomplish its goals, consistent with the requirements of FACA.

Nomination Information

1. Nominations are requested as described above.

2. Nominees must have scientific and technical expertise in such areas as communications, demographic, economic, field operations, geography, information technology, and statistics. Such knowledge and expertise are needed to provide advice and recommendations to the Director of the Census Bureau on the trends, uses, and application of scientific innovations and developments in relation to the full range of Census Bureau programs and activities.

3. The Census Bureau is especially interested in receiving applications from persons with expertise in survey methodology, information technology, computer science and engineering, geography, psychology, business/finance, sociology, and marketing.

4. Individuals, groups, and/or organizations may submit nominations on behalf of individual candidates. A summary of the candidate's qualifications (resumé or curriculum vitae) must be included along with the nomination letter. Nominees must be able to actively participate in the tasks of the Census Scientific Advisory Committee, including, but not limited to, regular meeting attendance, Committee meeting discussant responsibilities, review of materials, as well as participation in conference calls, webinars, working groups, and/or special Committee activities.

5. The Department of Commerce is committed to equal opportunity in the workplace and seeks diverse Committee membership.

Robert L. Santos, Director, Census Bureau, approved the publication of this notice in the Federal Register.

Dated: December 26, 2023.
Shannon Wink,
Program Analyst, Policy Coordination Office, U.S. Census Bureau.

[FR Doc. 2023-28812 Filed 12-29-23; 8:45 am]

BILLING CODE 3510-07-P